DEPARTMENT OF COMMERCE

International Trade Administration

[C-557-833]

Float Glass Products From Malaysia: Final Affirmative Countervailing Duty Determination; Correction

AGENCY: Enforcement and Compliance, International Trade Administration, Department of Commerce.

ACTION: Notice; correction.

SUMMARY: The U.S. Department of Commerce (Commerce) published notice in the Federal Register of February 9, 2026, in which Commerce announced the final affirmative countervailing duty (CVD) determination for float glass products from Malaysia. This notice inadvertently omitted mention of Commerce's final negative determination of critical circumstances.

FOR FURTHER INFORMATION CONTACT: Benjamin Nathan, AD/CVD Operations, Office II, Enforcement and Compliance, International Trade Administration, U.S. Department of Commerce, 1401 Constitution Avenue NW, Washington, DC 20230; telephone: (202) 482-3834.

SUPPLEMENTARY INFORMATION:

Background

On February 9, 2026, Commerce published in the Federal Register the final affirmative CVD determination for float glass products from Malaysia.¹ We inadvertently omitted mention of Commerce's final negative determination of critical circumstances.

¹ See Float Glass Products From Malaysia: Final Affirmative Countervailing Duty Determination, 91 FR 5720 (February 9, 2026).

Correction

In the Federal Register of February 9, 2026, in FR Doc 2026-02491, on page 5720, in the third column, correct the notice so that it includes a “Final Negative Determination of Critical Circumstances,” section which states:

“In the Preliminary Negative Critical Circumstances Determination,² Commerce found that critical circumstances do not exist for Jinjing Malaysia, Xinyi Malaysia, and all other producers or exporters of float glass products from Malaysia. No parties commented on Commerce's preliminary critical circumstances determination. In this final determination, Commerce has continued to find that critical circumstances do not exist for Jinjing Malaysia, Xinyi Malaysia, and all other producers or exporters of float glass from Malaysia.”

² See Float Glass Products from Malaysia: Preliminary Negative Critical Circumstances Determination in the Countervailing Duty Investigation, 90 FR 34844 (July 24, 2025).

Notification to Interested Parties

This notice is issued and published in accordance with sections 705(d) and 777(i) of the Tariff Act of 1930, as amended, and 19 CFR 351.210(c).

Dated: February 20, 2026.
Christopher Abbott,
Deputy Assistant Secretary for Policy and Negotiations, performing the non-exclusive functions and duties of the Assistant Secretary for Enforcement and Compliance.

[FR Doc. 2026-03759 Filed 2-24-26; 8:45 am]

BILLING CODE 3510-DS-P